FEDERAL COMMUNICATIONS COMMISSION

[OMB 3060-XXXX]

Information Collection Being Reviewed by the Federal Communications Commission

Correction

In notice document 2016-22522 beginning on page 64461 in the issue of Tuesday, September 20, 2016, make the following correction:

On page 63361, in the third column, under the DATES heading, in the second line “October 20, 2016” should read “November 21, 2016”.

[FR Doc. C1-2016-22522 Filed 9-26-16; 8:45 am]

BILLING CODE 1505-01-P